ENVIRONMENTAL PROTECTION AGENCY

[EPA-HQ-OPPT-2008-0717; FRL-8401-4]

Agency Information Collection Activities; Proposed Collection; Comment Request; Pressed Wood Manufacturing Industry Survey; EPA ICR No. 2328.01, OMB Control No. 2070-new; Extension of Comment Period

AGENCY: Environmental Protection Agency (EPA).

ACTION: Notice; extension of comment period.

SUMMARY: EPA issued a notice in the Federal Register of December 24, 2008, concerning a new Information Collection Request (ICR) entitled: “Pressed Wood Manufacturing Industry Survey” and is identified by EPA ICR No. 2328.01 and OMB Control No. 2070-new, on which EPA was soliciting comments. This document extends the comment period for 30 days, from February 23, 2009 to March 25, 2009.

DATES: Comments, identified by docket identification (ID) number EPA-HQ-OPPT-2008-0717, must be received on or before March 25, 2009.

ADDRESSES: Follow the detailed instructions as provided under ADDRESSES in the Federal Register document of December 24, 2008.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: William Silagi, Economics, Exposure and Technology Division (7406M), Office of Pollution Prevention and Toxics, Environmental Protection Agency, 1200 Pennsylvania Ave., NW., Washington, DC 20460-0001; telephone number: (202) 564-8788; fax number: (202) 564-8893; e-mail address: silagi.william@epa.gov.

SUPPLEMENTARY INFORMATION: This document extends the public comment period established in the Federal Register of December 24, 2008 (73 FR 79083) (FRL-8393-3). In that document, EPA announced that it is planning to submit a request for a new ICR to the Office of Management and Budget (OMB) in compliance with the Paperwork Reduction Act (PRA) (44 U.S.C. 3501 et seq.). The ICR is entitled: “Pressed Wood Manufacturing Industry Survey” and is identified by EPA ICR No. 2328.01 and OMB Control No. 2070-new. Before submitting the ICR to OMB for review and approval, EPA was soliciting comments on specific aspects of the proposed information collection. EPA is hereby extending the comment period, which was set to end on February 23, 2009, to March 25, 2009.

To submit comments, or access the public docket, please follow the detailed instructions as provided under ADDRESSES in the December 24, 2008 Federal Register document. If you have questions, consult the technical person listed under FOR FURTHER INFORMATION CONTACT.

List of Subjects

Environmental protection, Reporting and recordkeeping requirements.

Dated: January 29, 2009.
James Jones,
Acting Assistant Administrator, Office of Prevention, Pesticides and Toxic Substances.

[FR Doc. E9-2557 Filed 2-19-09; 8:45 am]

BILLING CODE 6560-50-S